DEPARTMENT OF COMMERCE

Foreign-Trade Zones Board

[B-82-2012]

Proposed Foreign-Trade Zone—Tunica County, MS; Under Alternative Site Framework

An application has been submitted to the Foreign-Trade Zones Board (the Board) by Tunica County, Mississippi, to establish a foreign-trade zone (FTZ) at sites in Tunica County, adjacent to the Memphis Customs and Border Protection port of entry, under the alternative site framework (ASF) adopted by the Board (15 CFR 400.2(c)). The ASF is an option for grantees for the establishment or reorganization of zones and can permit significantly greater flexibility in the designation of new “subzones” or “usage-driven” FTZ sites for operators/users located within a grantee's “service area” in the context of the Board's standard 2,000-acre activation limit for a general-purpose zone. The application was submitted pursuant to the provisions of the Foreign-Trade Zones Act, as amended (19 U.S.C. 81a-81u), and the regulations of the Board (15 CFR part 400). It was formally docketed on November 9, 2012. The applicant is authorized to make the proposal under Section 59-3-33 of the Mississippi Code Annotated (1972).

The proposed zone would be the second general-purpose zone in Mississippi for the Memphis CBP port of entry and would be the sixth zone overall for the port of entry. The existing zones are as follows: FTZ 77, Memphis, Tennessee (Grantee: City of Memphis, Board Order 189, April 2, 1982); FTZ 223, Memphis, Tennessee (Grantee: Memphis International Trade Development Corporation, Board Order 904, July 2, 1997); FTZ 262, Southaven, Mississippi (Grantee: Northern Mississippi FTZ, Inc., Board Order 1353, October 1, 2004); FTZ 273, West Memphis, Arkansas (Grantee: City of West Memphis, Arkansas, Board Order 1551, April 15, 2008); and, FTZ 283, West Tennessee Area (Grantee: Northwest Tennessee Regional Port Authority, Board Order 1851, October 11, 2012).

The applicant's proposed service area under the ASF would be Tunica County, Mississippi. If approved, the applicant would be able to serve sites throughout the service area based on companies' needs for FTZ designation. The proposed service area is adjacent to the Memphis Customs and Border Protection port of entry.

The proposed zone would include one “magnet” site and two “usage-driven” sites: Proposed Site 1 (100 acres)—SXP Schulz, 1001 Schulz Boulevard, Robinsonville; Proposed Site 2 (200 acres)—GreenTech Automotive, 1630 Casino Strip Resorts Boulevard, Robinsonville; and, Proposed Site 3 (289 acres)—Tunica County Airport, 209 South Airport Boulevard, Tunica. The ASF allows for the possible exemption of one magnet site from the “sunset” time limits that generally apply to sites under the ASF, and the applicant proposes that Site 3 be so exempted.

The application indicates a need for zone services in the Tunica County area. Several firms have indicated an interest in using zone procedures for warehousing/distribution activities for a variety of products. Specific production approvals are not being sought at this time. Such requests would be made to the Board on a case-by-case basis.

In accordance with the Board's regulations, Camille Evans of the FTZ Staff is designated examiner to evaluate and analyze the facts and information presented in the application and case record and to report findings and recommendations to the Board.

Public comment is invited from interested parties. Submissions shall be addressed to the Board's Executive Secretary at the address below. The closing period for their receipt is January 18, 2013. Rebuttal comments in response to material submitted during the foregoing period may be submitted during the subsequent 15-day period to February 4, 2013.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz. For further information, contact Camille Evans at Camille.Evans@trade.gov or (202) 482-2350.

Dated: November 9, 2012.
Andrew McGilvray,
Executive Secretary.

[FR Doc. 2012-27970 Filed 11-16-12; 8:45 am]

BILLING CODE P